NUCLEAR REGULATORY COMMISSION

Advisory Committee on Reactor Safeguards (ACRS) Meeting of the ACRS Subcommittee on AP 1000; Notice of Meeting

The ACRS Subcommittee on the AP 1000 will hold a meeting on July 23-24, 2009, Room T-2B3, 11545 Rockville Pike, Rockville, Maryland.

The entire meeting will be open to public attendance, with the exception of a portion that may be closed pursuant to 5 U.S.C. 552b(c)(4) to protect information that is proprietary to the Westinghouse Electric Company or its contractors.

The agenda for the subject meeting shall be as follows:

Thursday, July 23, 2009-8:30 a.m.-5 p.m.

Friday, July 24, 2009-8:30 a.m.-5 pm.

The Subcommittee will review selected chapters of the Draft Safety Evaluation Report associated with the amendment to the AP 1000 Design Certification Document and selected chapters of the Draft Safety Evaluation Report associated with the Bellefonte Reference Combined License Application. The Subcommittee will hear presentations by and hold discussions with representatives of the NRC staff and other interested persons regarding this matter. The Subcommittee will gather information, analyze relevant issues and facts, and formulate proposed positions and actions, as appropriate, for deliberation by the Full Committee.

Members of the public desiring to provide oral statements and/or written comments should notify the Designated Federal Official, Mr. Michael Lee, (Telephone: 301-415-6887) five days prior to the meeting, if possible, so that appropriate arrangements can be made. Electronic recordings will be permitted. Detailed procedures for the conduct of and participation in ACRS meetings were published in the Federal Register on October 6, 2008 (73 FR 58268-58269).

Further information regarding this meeting can be obtained by contacting the Designated Federal Official between 8:15 a.m. and 5:15 p.m. (ET). Persons planning to attend this meeting are urged to contact the above named individual at least two working days prior to the meeting to be advised of any potential changes to the agenda.

Dated: June 25, 2009.
Antonio Dias,
Chief, Reactor Safety Branch B, Advisory Committee on Reactor Safeguards.

[FR Doc. E9-15630 Filed 7-1-09; 8:45 am]

BILLING CODE 7590-01-P